NATIONAL SCIENCE FOUNDATION

National Science Board

Sunshine Act Meetings; Notice

The National Science Board, pursuant to NSF regulations (45 CFR Part 614), the National Science Foundation Act, as amended (42 U.S.C. 1862n-5), and the Government in the Sunshine Act (5 U.S.C. 552b), hereby gives notice in regard to the scheduling of meetings for the transaction of National Science Board business and other matters specified, as follows:

AGENCY HOLDING MEETING: National Science Board.

DATE AND TIME: Tuesday, May 4, 2010, at 7:30 a.m.; and Wednesday, May 5, 2010 at 7:30 a.m.

PLACE: National Science Foundation, 4201 Wilson Blvd., Rooms 1235 and 1295, Arlington, VA 22230. All visitors must report to the NSF visitor desk at the 9th and N. Stuart Streets entrance to receive a visitor's badge. Public visitors must arrange for a visitor's badge in advance. Call 703-292-7000 or e-mail NationalScienceBrd@nsf.gov and leave your name and place of business to request your badge, which will be ready for pick-up at the visitor's desk on the day of the meeting.

STATUS: Some portions open, some portions closed.

Open Sessions

May 4, 2010

7:30 a.m.-7:35 a.m.

7:35 a.m.-9 a.m.

11:30 a.m.-12 p.m.

1 p.m.-3 p.m.

2 p.m.-3:30 p.m.

3 p.m.-3:15 p.m.

3:15 p.m.-3:30 p.m.

3:30 p.m.-4 p.m.

May 5, 2010

7:30 a.m.-8:30 a.m.

7:30 a.m.-9 a.m.

8:30 a.m.-9:30 a.m.

9:30 a.m.-10:30 a.m.

10:30 a.m.-11:30 a.m.

1:45 p.m.-3:35 p.m.

Closed Sessions

May 4, 2010

9 a.m.-11:30 a.m.

1 p.m.-2 p.m.

May 5, 2010

9 a.m.-9:30 a.m.

11:30 a.m.-12 p.m.

1 p.m.-1:45 p.m.

AGENCY CONTACT: Kim Silverman, ksilverm@nsf.gov, (703) 292-7000, http://www.nsf.gov/nsb/.

Matters To Be Discussed

Tuesday, May 4, 2010

Chairman's Introduction

Open Session: 7:30 a.m.-7:35 a.m., Room 1235

• Chairman's Remarks.

Committee on Programs and Plans (CPP)

Open Session: 7:35 a.m.-9 a.m., Room 1235

• Approval of February 2010 Minutes.

• Committee Chairman's Remarks.

• Subcommittee on Polar Issues (SOPI):

○ SOPI Chairman's Remarks.

○ Director's Report—Office of Polar Programs (OPP).

○ U.S. Antarctic Program Review.

○ International State of the Arctic Meeting.

• Discussion Item: Review of NSB Policy on Award Thresholds requiring NSB approval.

• CPP Task Force on Support of Mid-Scale and Multi-Investigator Research: Status Report.

• NSB Information Item: iPlant.

• NSB Information Item: DataNet.

Closed Session: 9 a.m.-11:30 a.m., Room 1235

• Committee Chairman's Remarks.

• NSB Information Item: DUSEL—Update.

• NSB Action Item: Academic Research Infrastructure Recovery and Reinvestment Program (ARI-R²).

• NSB Action Item: NCAR Supercomputing Center Construction Project.

• NSB Action Item: Approval of MREFC Construction Award for the National Ecological Observatory Network (NEON).

Plenary Open

Open Session: 11:30 a.m.-12 p.m., Room 1235

• Presentation by Honorary Awards Recipient:

○ NSB Public Service Award-individual, Dr. Nalini Nadkarni.

Committee on Audit and Oversight (A&O)

Open Session: 1 p.m.-3 p.m., Room 1235

• Approval of Minutes, February 3, 2010.

• Committee Chairman's Opening Remarks.

• Human Resources Update.

• Chief Financial Officer's Update.

OIG Semiannual Report.

• Management Response to OIG Semiannual Report.

• Inspector General's ARRA Update.

• 2010 Financial Statement Audit.

• Future NSF Update.

• Report to the Board on the NSF Merit Review Process, FY 2009.

• Review of NSB Policy on Award Thresholds Requiring NSB Approval.

• Committee Chairman's Closing Remarks.

Committee on Programs and Plans (CPP)

Closed Session: 1 p.m.-2 p.m., Room 1295

• NSB Action Item: Support for nine FY 2010 Research Infrastructure Improvement Program (RII) Track-1 proposed awards from the Experimental Program to Stimulate Competitive Research.

Committee on Strategy and Budget (CSB)

Open Session: 2 p.m.-3:30 p.m., Room 1295

Subcommittee on Facilities (SCF).

• Approval of SCF Teleconference Minutes, January 2010.

• Approval of SCF Teleconference Minutes, March 2010.

• Approval of SCF Teleconference Minutes, April 2010.

• SCF Chairman's Remarks.

• Overview of the Draft Report of the NSF Facilities Portfolio Review.

• Discussion of the Draft NSF Facilities Portfolio Review.

• Next Steps for Final Report.

Task Force on the NSB 60th Anniversary

Open Session: 3 p.m.-3:15 p.m., Room 1235

• Approval of Minutes, February 3, 2010.

• Task Force Chairman's Remarks.

• Updates on NSB/NSF Anniversary Activities.

○ OLPA Activities including Sensational 60.

○ NSF 60th Anniversary Working Group Activities.

Executive Committee (EC)

Open Session: 3:15 p.m.-3:30 p.m., Room 1235

• Approval of February 2010 Minutes.

• Approval of the Executive Committee Annual Report.

• Executive Committee Chairman's Remarks.

• Updates or New Business from Committee Members.

Plenary Open

Open Session: 3:30 p.m.-4 p.m., Room 1235

• Presentation by Honorary Awards Recipient:

○ Vannevar Bush Award, Dr. Bruce Alberts.

Wednesday, May 5, 2010

Committee on Education and Human Resources (CEH)

Open Session: 7:30 a.m.-8:30 a.m., Room 1235

• Approval of February 2010 Minutes.

• Next Generation of STEM Innovators White Paper.

• A Comprehensive Broadening Participation in Undergraduate STEM Program.

○ Synopsis of Proposed Program.

○ Discussion.

• Other Committee Business.

Committee on Strategy and Budget (CSB)

Open Session: 7:30 a.m.-9 a.m., Room 1295

• Approval of CSB Meeting Minutes from February 3 and 4, 2010.

• Chairman's Remarks.

• CSB Data Policies Task Force.

• FY 2011 Budget Request Update.

• ARRA Update.

• Strategic Plan Update.

• NSB Budget.

• Other Committee Business.

Closed Session: 9 a.m.-9:30 a.m., Room 1295

• FY 2012 Request Planning.

• Other Committee Business.

Task Force on Merit Review (MR)

Open Session: 8:30 a.m.-9:30 a.m., Room 1235

• Task Force Chairman's Remarks.

• Approval of Minutes from March 25, 2010 Teleconference.

• Approval of Task Force Charge and Work Plan.

• Next Steps: Identifying sources and types of data to consider and specific expertise needed.

Committee on Science and Engineering Indicators (SEI)

Open Session: 9:30 a.m.-10:30 a.m., Room 1235

• Approval of February Minutes.

• Chairman's Remarks.

• Report on Rollout of Indicators 2010 and Press Coverage.

• Expert Input on Measuring Scientific Knowledge and Understanding for Consideration in Future Science and Engineering Indicators Reports.

• Indicators Education Tool.

• Chairman's Summary.

Plenary Open

Open Session: 10:30 a.m.-11:30 a.m., Room 1235

• Presentation by Honorary Awards Recipients:

○ Waterman Award, Dr. Subhash Khot.

○ NSB Public Service Award—group, The Expanding Your Horizons Network.

Plenary Executive Closed

Closed Session: 11:30 a.m.-12 p.m., Room 1235

• Approval of Plenary Executive Closed Minutes, February 2010.

• Election for NSB Chairman and Vice Chairman.

Plenary Closed

Closed Session: 1 p.m.-1:45 p.m., Room 1235

• Approval of Plenary Closed Minutes, February 2010.

• Awards and Agreements—Committee on Programs and Plans Presentations.

• Closed Committee Reports.

Plenary Open

Open Session: 1:45 p.m.-3:45 p.m., Room 1235

• Recognition of the Class of 2010 and Executive Secretaries.

• Approval of Open Session Minutes, February 2010.

• Closed Session Items for August 2010 Meeting.

• Chairman's Report.

• Director's Report.

• Open Committee Reports.

Ann Ferrante,
Technical Writer/Editor.

[FR Doc. 2010-10022 Filed 4-26-10; 4:15 pm]

BILLING CODE 7555-01-P